DEPARTMENT OF ENERGY

Notice of Orders Issued Under Section 3 of the Natural Gas Act During October 2019

| FE Docket Nos.
EAGLE LNG PARTNERS JACKSONVILLE LLC | 16-15-LNG
ECA LIQUEFACTION, S. DE R.L. DE C.V. (FORMERLY ENERGÍA COSTA AZUL,) S. DE R.L. DE C.V.) | 18-144-LNG
VENTURE GLOBAL PLAQUEMINES LNG, LLC | 16-28-LNG
CENOVUS ENERGY MARKETING LTD | 19-94-NG
CANADA IMPERIAL OIL LIMITED | 19-114-NG
XTO ENERGY INC | 19-116-NG
DIRECT ENERGY MARKETING INC | 19-117-NG
IRVING OIL TERMINALS OPERATIONS LLC | 19-118-NG
DIRECT ENERGY MARKETING LIMITED | 19-112-NG
ALTAGAS MARKETING (U.S.) INC | 19-113-NG
PEMEX TRANSFORMACÍON INDUSTRIAL | 19-115-NG
GAS NATURAL CAXITLAN, S. DE R.L. DE C.V | 19-119-NG
SUNCOR ENERGY MARKETING INC | 19-120-NG
BLUE WATER FUELS, LLC | 19-99-LNG
BLUE WATER FUELS, LLC | 18-27-LNG

AGENCY: Office of Fossil Energy, Department of Energy.

ACTION: Notice of orders.

SUMMARY: The Office of Fossil Energy (FE) of the Department of Energy gives notice that during October 2019, it issued orders granting authority to import and export natural gas, to import and export liquefied natural gas (LNG), to amend, and to transfer authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on November 20, 2019.
Amy Sweeney,
Director, Office of Regulation, Analysis, and Engagement, Office of Oil and Natural Gas.

APPENDIX

DOE/FE Orders Granting Import/Export Authorizations
4445 | 10/03/19 | 16-15-LNG | Eagle LNG Partners Jacksonville LLC | Opinion and Order 4445 granting long-term authority to export LNG to Non-Free Trade Agreement Nations.
4317-A; 4364-A | 10/07/19 | 18-144-LNG | ECA Liquefaction, S. de R.L. de C.V. (formerly Energía Costa Azul, S. de R.L. de C.V.) | Orders 4317-A and 4364-A granting transfer of authorizations.
4446 | 10/16/19 | 16-28-LNG | Venture Global Plaquemines LNG, LLC | Opinion and Order 4446 granting long-term authority to export LNG to Non-Free Trade Agreement Nations.
4429-A | 10/18/19 | 19-94-NG | Cenovus Energy Marketing Ltd | Errata Order 4429.
4447 | 10/21/19 | 19-114-NG | Canada Imperial Oil Limited | Order 4447 granting blanket authority to import/export natural gas from/to Canada.
4448 | 10/18/19 | 19-116-NG | XTO Energy Inc. | Order 4448 granting blanket authority to export natural gas to Canada/Mexico.
4449 | 10/18/19 | 19-117-NG | Direct Energy Marketing Inc | Order 4449 granting blanket authority to import/export natural gas from/to Canada.
4450 | 10/18/19 | 19-118-NG | Irving Oil Terminals Operations LLC | Order 4450 granting blanket authority to import natural gas from Canada.
4451 | 10/18/19 | 19-112-NG | Direct Energy Marketing Limited | Order 4451 granting blanket authority to import natural gas from Canada.
4452 | 10/18/19 | 19-113-NG | Altagas Marketing (U.S.) Inc | Order 4452 granting blanket authority to export natural gas to Canada.
4453 | 10/18/19 | 19-115-NG | Pemex Transformacíon Industrial | Order 4453 granting blanket authority to import/export natural gas from/to Canada/Mexico, and to import LNG from various international sources by vessel.
4454 | 10/18/19 | 19-119-NG | Gas Natural Caxitlan, S. de R.L. de C.V | Order 4454 granting blanket authority to export natural gas to Mexico.
4455 | 10/18/19 | 19-120-NG | Suncor Energy Marketing Inc | Order 4455 granting blanket authority to import/export natural gas from/to Canada.
4460 | 10/31/19 | 19-99-LNG | Blue Water Fuels, LLC | Order 4460 granting long-term authority for Small-scale exports of LNG.
4202-A | 10/31/19 | 19-27-LNG | Blue Water Fuels, LLC | Order 4204-A amending long-term authority to export LNG to Free-Trade Agreement Nations.

[FR Doc. 2019-25646 Filed 11-25-19; 8:45 am]

BILLING CODE 6450-01-P